DEPARTMENT OF JUSTICE

Office of Attorney Personnel Management, Justice Management Division; Agency Information Collection Activities: Proposed Collection: Extension of a Currently Approved Collection

ACTION: Application booklets—Attorney General's Honor program, Summer law intern program.

Office of Management and Budget (OMB) approval is sought for the information collection listed below. This proposed information collection was previously published in the Federal Register and allowed 60 days for public comment.

The purpose of this notice is to allow an additional 30 days for public comments. Comments are encouraged and will be accepted for 30 days until June 16, 2000. This process is conducted in accordance with 5 Code of Federal Regulation, Part 1320.10. Written comments and/or suggestions regarding the item(s) contained in this notice, especially regarding the estimated public burden and associated response time, should be directed to the Office of Management and Budget, Office of Information and Regulatory Affairs, Attention: Clarisa Rodriguez-Coelho, Department of Justice Desk Officer, Washington, DC, 20530. Additionally, comments may be submitted to OMB via facsimile to 202-395-7285. Comments may also be submitted to the Department of Justice (DOJ), Justice Management Division, Information Management and Security Staff, Attention: Department Clearance Officer, Suite 1220. 1331 Pennsylvania Avenue, NW, Washington, DC, 20530. Additionally, comments may be submitted to DOJ via facsimile to 202-514-1534. Written comments and suggestions from the public and affected agencies should address one or more of the following points:

(1) Evaluate whether the proposed collection of information is necessary for the proper performance of the functions of the agency/component, including whether the information will have practical utility;

(2) Evaluate the accuracy of the agencies/components estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of information collection: Extension of a currently approved collection.

(2) The title of the form/collection: Application Booklets—Attorney General's Honor Program, Summer Law Intern Program.

(3) The agency form number, if any, and the applicable component of the Department sponsoring the collection. Form number: None. Office of Attorney Personnel Management, Justice Management Division, United States Department of Justice.

(4) Affected public who will be asked or required to respond, as well as a brief abstract. Primary: Individuals or households. Other: None. This data collected is the only vehicle for the Department of Justice (DOJ) to hire graduating law students. This application form submitted voluntarily, submitted only once a year by students/judicial law clerks who will be in this applicant pool only once; and the information sought by relates to the hiring criteria established as an internal matter by DOJ personnel.

(5) An estimate of the total number of respondents and the amount of time estimate for an average respondent to respond: 5,000 respondents at 1 hour response.

(6) An estimated of the total public burden (in hours) associated with the collection: 5,000 annual burden hours. Public comment on this proposed information collection is strongly encouraged.

Robert B. Briggs,
Department Clearance Officer, Department of Justice.

[FR Doc. 00-12429 Filed 5-16-00; 8:45 am]

BILLING CODE 4410-26-M